DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: NOAA Fisheries Greater Atlantic Region Vessel Identification Requirements.

OMB Control Number: 0648-0350.

Form Number(s): None.

Type of Request: Regular (extension of a current information collection).

Number of Respondents: 3,675.

Average Hours per Response: 45 minutes.

Burden Hours: 2,756.

Needs and Uses: This request is for extension of a currently approved information collection.

Regulations at 50 CFR 648.8 and 697.8 require that owners of vessels over 25 ft and, if possible, on its stern. The official number must be displayed on the port and starboard sides of the deckhouse or hull, and on an appropriate weather deck so as to be clearly visible from enforcement vessels and aircraft. The display of the identifying characters aids in fishery law enforcement.

Affected Public: Business or other for-profit organizations.

Frequency: Annually.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: October 10, 2014.
Glenna Mickelson,
Management Analyst, Office of the Chief Information Officer.

[FR Doc. 2014-24678 Filed 10-16-14; 8:45 am]

BILLING CODE 3510-22-P